DEPARTMENT OF DEFENSE

Department of the Navy

Notice of Intent To Grant Exclusive Patent License; IRFlex Corporation

AGENCY: Department of the Navy, DOD.

ACTION: Notice.

SUMMARY: The Department of the Navy hereby gives notice of its intent to grant to IRFlex Corporation a revocable, nonassignable, exclusive license to practice the field of use of nonlinear, mid-infrared fiber and fiber devices to generate and/or guide mid-infrared sources over long distances (1-500 meters) in the United States, the Government-owned inventions described in U.S. Patent No. 5,949,935: Infrared Optical Fiber Couple, Navy Case No. 78,344.//U.S. Patent No. 6,928,227: Amplification with Chalcogenide Glass Fiber, Navy Case No. 82,848.//U.S. Patent No. 7,133,590: IR Supercontinuum Source, Navy Case No. 96,194.//U.S. Patent No. 7,809,030: OPO Mid-IR Wavelength Converter, Navy Case No. 98,538.//U.S. Patent Application No. 12/179,797: Manufacturing Process for Chalcogenide Glasses, Navy Case No. 96,838.//U.S. Patent Application No. 12/851,377: Microstructured Fiber End, Navy Case No. 98,546.//U.S. Patent Application No. 12/645,315: Fiber-Based Mid-IR Signal Combiner and Method of Making Same, Navy Case No. 99,613 and any continuations, divisionals or re-issues thereof.

DATES: Anyone wishing to object to the grant of this license must file written objections along with supporting evidence, if any, not later than January 27, 2011.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone 202-767-3083. Due to U.S. Postal delays, please fax 202-404-7920, e-mail: rita.manak@nrl.navy.mil or use courier delivery to expedite response.

Authority: 35 U.S.C. 207, 37 CFR part 404.

Dated: January 6, 2011.
D.J. Werner,
Lieutenant Commander, Judge Advocate General's Corps, U.S. Navy, Federal Register Liaison Officer.

[FR Doc. 2011-451 Filed 1-11-11; 8:45 am]

BILLING CODE 3810-FF-P